DEPARTMENT OF AGRICULTURE

Forest Service

Fremont and Winema Resource Advisory Committee

AGENCY: Forest Service, USDA.

ACTION: Notice of meeting.

SUMMARY: The Fremont and Winema Resource Advisory Committee will meet in Klamath Falls, Oregon, for the purpose of conducting business as it relates to the planning of RAC Project Proposal workshops in the winter of 2006. The RAC will also discuss budget and other outstanding business. The RAC is authorized under the provisions of Title II of the Secure Rural Schools and Community Self-Determination Act of 2000.

DATES: The meeting will be held on December 14, 2005.

ADDRESSES: The meeting will be held at the Klamath Ranger District Office located at 1936 California Avenue, Klamath Falls, Oregon 97603. Send written comments to Fremont and Winema Resource Advisory Committee, c/o USDA Forest Service, P.O. Box 67, Paisley, OR 97636, or electronically to agowan@fs.fed.us.

FOR FURTHER INFORMATION CONTACT: Amy Gowan, Designated Federal Official, c/o Klamath National Forest, 1312 Fairlane Road, Yreka, CA 96097, telephone (530) 841-4421.

SUPPLEMENTARY INFORMATION: The agenda will include time for RAC proposal workshop planning, funding review and 2002 to 2005 project status report. 1 All Fremont and Winema Resource Advisory Committee Meetings are open to the public. There will be a time for public input and comment. Interested citizens are encouraged to attend.

Dated: November 16, 2005.
Amy A. Gowan,
Designated Federal Official.

[FR Doc. 05-23261 Filed 11-23-05; 8:45 am]

BILLING CODE 3410-11-M